ENVIRONMENTAL PROTECTION AGENCY

[EPA-HQ-OPPT-2015-0707; FRL-9917-95]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from September 16, 2014 to October 3, 2014.

DATES: Comments identified by the specific PMN number, must be received on or before December 15, 2014.

ADDRESSES: Submit your comments, identified by docket identification (ID) number EPA-HQ-OPPT-2015-0707, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from September 16, 2014 to October 3, 2014, and consists of PMNs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—31 PMNs Received From 9/16/14 to 10/3/14
Case No. | Received date | Projected notice end date | Manufacturer/importer | Use | Chemical
P-14-0846 | 9/15/2014 | 12/14/2014 | Alberdingk Boley Inc | (S) Coating for wood | (G) Alkanoic acid, hydroxy-(hydroxyalkyl)-methyl-, polymer with diisocyanatoalkane,-hydro—hydroxypoly(oxy-alkanediyl) and isocyanato-1-(isocyanatoalkyl)-trimethylcycloalkane, tetrahydroxyalkanel triacrylate-blocked, compd. with triethylamine.
P-14-0849 | 9/16/2014 | 12/15/2014 | CBI | (G) Intermediate | (G) Amine terminated copolymer.
P-14-0850 | 9/17/2014 | 12/16/2014 | Mcgean-Rohco Inc. 130130 | (S) Grain refiner for alkaline zinc electro deposits | (S) 1-methylpyridinium-3-carboxylate.
P-14-0851 | 9/17/2014 | 12/16/2014 | CBI | (S) Reactive polymer for use in adhesive applications | (G) Polyurethane.
P-14-0852 | 9/17/2014 | 12/16/2014 | CBI | (G) Reactive polymer for use in adhesive applications | (G) Polyurethane.
P-14-0853 | 9/17/2014 | 12/16/2014 | CBI | (G) Reactive polymer for use in adhesive applications | (G) Polyurethane.
P-14-0854 | 9/17/2014 | 12/16/2014 | CBI | (G) Reactive polymer for use in adhesive applications | (G) Polyurethane.
P-14-0855 | 9/17/2014 | 12/16/2014 | CBI | (S) Reactive polymer for use in adhesive applications | (G) Polyurethane.
P-14-0856 | 9/17/2014 | 12/16/2014 | CBI | (S) Reactive polymer for use in adhesive applications | (G) Polyurethane.
P-14-0857 | 9/17/2014 | 12/16/2014 | CBI | (S) Reactive polymer for use in adhesive applications | (G) Polyurethane.
P-14-0858 | 9/17/2014 | 12/16/2014 | CBI | (S) Reactive polymer for use in adhesive applications | (G) Polyurethane.
P-14-0859 | 9/17/2014 | 12/16/2014 | CBI | (G) Agriculture Fertilizer | (G) Iron EDDHSA.
P-14-0861 | 9/19/2014 | 12/18/2014 | Kaneka North America LLC | (G) Component of adhesive | (G) Alkyl alkenoic acid, alkyl ester, telomer with alkyl alkenoate, trialkoxysilyl substituted alkane and trilalkoxysilyl alkyl alkyl alkenoate, bis substituted diazenyl-initiated.
P-14-0862 | 9/22/2014 | 12/21/2014 | CBI | (G) Industrial intermediate | (G) Furanose ester.
P-14-0863 | 9/22/2014 | 12/21/2014 | CBI | (G) Acrylic pressure sensitive adhesive | (G) Solution acrylic polymer.
P-14-0865 | 9/23/2014 | 12/22/2014 | CBI | (G) Isolated intermediate | (G) Aromatic amide oxime.
P-14-0868 | 9/26/2014 | 12/25/2014 | Allnex USA Inc. | (S) Coatings for automobile headlights, polycarbonate glazing, and films | (G) Substituted carbopolycycle, polymer with disubstituted alkane substituted alkyl acrylate-blocked.
P-14-0869 | 9/26/2014 | 12/25/2014 | H.B. Fuller Company | (G) Industrial adhesive | (G) Hexanedioic acid, polymer with alkyldiol, 1,6-hexanediol, dicarboxylic acid anhydride, 1,1′-methylenebis[isocyanatobenzene], alkylene oxides and .alpha., .alpha.′, .alpha.″-1,2,3-propanetriyltris[.omega.-hydroxypoly[oxy(methyl-1,2-ethanediyl)]].
P-14-0870 | 9/26/2014 | 12/25/2014 | H.B. Fuller Company | (G) Industrial adhesive | (G) Hexanedioic acid, polymer with alkyldiol, 1,6-hexanediol, dicarboxylic acid anhydride, 1,1′-methylenebis[4-isocyanatobenzene], alkylene oxides and .alpha., .alpha.′, .alpha.″-1,2,3-propanetriyltris[.omega.-hydroxypoly[oxy(methyl-1,2-ethanediyl)]].
P-14-0871 | 9/29/2014 | 12/28/2014 | CBI | (G) Asphalt additive | (G) Fatty acid rxn products with aminoalkylhydroxyamines.
P-14-0872 | 9/29/2014 | 12/28/2014 | CBI | (G) Asphalt additive | (G) Fatty acid rxn products with aminoalkyamines.
P-14-0873 | 9/30/2014 | 12/29/2014 | CBI | (S) Chemical intermediate for use in the manufacture of a dye | (G) Substituted naphthalenesulfonic acid.
P-14-0874 | 9/30/2014 | 12/29/2014 | CBI | (G) Ingredient in a coating for industrial equipment | (G) Polyacrylate.
P-15-0001 | 10/3/2014 | 1/1/2015 | Croda | (G) Inert surfactant in food use and non-food use pesticide formulations | (S) Oxirane, 2-methyl-, polymer with oxirane, monohexadecyl ether, phosphate.
P-15-0002 | 10/3/2014 | 1/1/2015 | Croda | (G) Inert surfactant in food use and non-food use pesticide formulations | (S) Oxirane, 2-methyl-, polymer with oxirane, monohexadecyl ether, phosphate, sodium salt.
P-15-0003 | 10/3/2014 | 1/1/2015 | Croda | (G) Inert surfactant in food use and non-food use pesticide formulations | (S) Oxirane, 2-methyl-, polymer with oxirane, monohexadecyl ether, phosphate, potassium salt.
P-15-0004 | 10/3/2015 | 1/1/2015 | Croda | (G) Inert surfactant in food use and non-food use pesticide formulations | (S) Oxirane, 2-methyl-, polymer with oxirane, monohexadecyl ether, phosphate, ammonium salt.
P-15-0005 | 10/3/2014 | 1/1/2015 | Croda | (G) Inert surfactant in food use and non-food use pesticide formulations | (S) Ethanol, 2-amino-, compound, with 2-methyloxirane polymer with oxirane monohexadecyl ether phosphate.
P-15-0006 | 10/3/2014 | 1/1/2015 | Croda | (G) Inert surfactant in food use and non-food use pesticide formulations | (S) Ethanol, 2-amino-, compound, with 2-methyloxirane polymer with oxirane monohexadecyl ether phosphate.
P-15-0007 | 10/3/2014 | 1/1/2015 | Shin Etsu Silicones of America | (G) The release agent including this material are applied to a dye | (G) Organopolysiloxane.
P-15-0009 | 10/6/2014 | 1/1/2015 | International Flavors & Fragrances Inc | (S) Fragrance ingredient for use in fragrances for soaps, detergents, cleaners and other household products | (S) Cyclohecane, 2-ethoxy-1,3-dimethyl-*.

In Table II. of this unit, EPA provides the following information (to the extent that such information is not claimed as CBI) on the NOCs received by EPA during this period: The EPA case number assigned to the NOC, the date the NOC was received by EPA, the projected end date for EPA's review of the NOC, and chemical identity.

Table II—35 NOCs Received From 9/16/14 to 10/3/14
Case No. | Received date | Commencement notice end date | Chemical
P-14-0566 | 9/15/2014 | 9/6/2014 | (S) Mixture of 4-decenal,9-hydroxy-5,9-dimethyl-, (4Z)-.
P-13-0429 | 9/17/2014 | 8/27/2014 | (G) Acrylic copolymer emulsion.
P-13-0516 | 9/17/2014 | 8/27/2014 | (G) Alkanedioic acid, polymer with (haloalkyl)oxirane, (hydroxyalkyl)-alkyldiol, (alkylethylidene)bis[hydroxybenzene] and oxirane-alkenoate polymer with hydroxy-(hydroxyalkyl)-alkanoic acid and isocyanato-(isocyanatoalkyl)-cycloalkane, compound with N,N-dialkylalkylamine.
P-13-0334 | 9/17/2014 | 8/28/2014 | (G) Propenoic acid ester, polymer with alkyl propenoate, N-(dimethyloxoalkyl)alkylamide, alkenylbenzene, alkyl propenoate and alkyl alkyl propenoate.
P-13-0335 | 9/17/2014 | 8/28/2014 | (G) Propenoic acid ester, polymer with alkyl propenoate, N-(dimethyloxoalkyl)alkylamide, alkenylbenzene and alkyl alkyl propenoate.
P-14-0302 | 9/17/2014 | 9/8/2014 | (G) Alkanedioic acid, polymer with dialkyl carbonate, alkanediol, hydroxy-(hydroxymethyl)-2-alkylcarboxylic acid, methylenebis[isocyanatocycloalkane] and alkyl-2-alkenoate, compound with N,N-dialkylalkylamine.
P-14-0031 | 9/17/2014 | 9/11/2014 | (G) Substituted fatty acids, polymers with alkanedioic acid, substituted carbomonocycles, substituted alkanoates, alkanediol, compounds. with substituted alkanol.
P-08-0551 | 9/18/2014 | 11/20/2010 | (S) 1-propene, 1,3,3,3-tetrafluoro-, (1Z)-.
P-14-0514 | 9/19/2014 | 9/10/2014 | (G) Acrylic copolymer.
P-14-0515 | 9/19/2014 | 9/10/2014 | (G) Acrylic copolymer.
P-14-0516 | 9/19/2014 | 9/10/2014 | (G) Acrylic copolymer.
P-13-0951 | 9/22/2014 | 9/8/2014 | (G) Zinc carboxylate.
P-14-0495 | 9/23/2014 | 9/5/2014 | (S) Hexanedioic acid, polymers with 1,3-butanediol, 1,4-butanediol, di-et malonate, 1,6-diisocyanatohexane, ethoxylated reduced me esters of reduced polymound. oxidized tetrafluoroethylene, 1,6-hexanediol, 1,1′-methylenebis[isocyanatobenzene], propylene glycol and tripropylene glycol.
P-09-0066 | 9/23/2014 | 9/8/2014 | (G) Benzoic acid phenyl ester.
P-14-0440 | 9/24/2014 | 8/27/2014 | (G) Arylalkylphosphonium salt.
P-14-0042 | 9/24/2014 | 9/4/2014 | (G) Substituted perfluoroether.
P-14-0306 | 9/24/2014 | 9/24/2014 | (G) Alklyl borate ester.
P-14-0359 | 9/25/2014 | 9/18/2014 | (G) Sulfurized olefin and oil.
P-14-0505 | 9/26/2014 | 8/27/2014 | (G) 2-propenoic acid,1,1-[2-ethyl-2-[[(1-oxo-2-propen-1-yl)oxy]methyl]-1,3-propanediyl] ester, polymer with 1,1-(1,2-ethanediyl) ester.
P-14-0439 | 9/26/2014 | 9/4/2014 | (G) Aryl-substituted amide.
P-96-0190 | 9/26/2014 | 9/4/2014 | (S) 2,5-furandione, polymer with 1,2-ethanediol, 2,2′-[(4-methylphenyl)imino]bis[ethanol], 2,2′-oxybis[ethanol] and 3a,4,7,7a-tetrahydro-4,7-methano-1H-indene.
P-14-0521 | 9/29/2014 | 9/17/2014 | (G) Methylenediphenyl diisocyanate prepolymer.
P-14-0354 | 9/30/2014 | 9/4/2014 | (G) Depolymerized polyurethane.
P-13-0646 | 9/30/2014 | 9/11/2014 | (G) Fluoroalkyl acrylate copolymer modified with polysiloxanes.
P-13-0647 | 9/30/2014 | 9/11/2014 | (G) Fluoroalkyl acrylate copolymer.
P-13-0648 | 9/30/2014 | 9/11/2014 | (G) Fluoroalkyl acrylate copolymer modified with polysiloxanes.
P-13-0649 | 9/30/2014 | 9/11/2014 | (G) Fluoroalkyl acrylate copolymer.
P-13-0678 | 9/30/2014 | 9/11/2014 | (G) Fluoroalkyl methylacrylate copolymer.
P-13-0679 | 9/30/2014 | 9/11/2014 | (G) Fluoroalkyl acrylate copolymer.
P-13-0849 | 9/30/2014 | 9/26/2014 | (G) Modified polymer of ethenylbenzene, buta-1,3-diene, and substituted methyl acrylates.
P-14-0380 | 10/1/2014 | 9/10/2014 | (S) Cashew, nutshell liquid, reaction products with aniline and formaldehyde.
P-14-0268 | 10/6/2014 | 9/15/2014 | (S) Carbamic acid, N-(3-isoocyanatomethylphenyl)-, 2-[2-(2-butoxyethoxy)ethoxy]ethyl ester.
P-14-0441 | 10/6/2014 | 9/24/2014 | (G) Heterocylic dione polymer with alkenylbenzene and alkoxpoly(oxy-alkanediyl)alkylacrylate.
P-14-0945 | 7/23/14 | 7/9/14 | (G) Alkoxysilane.
P-14-0946 | 7/23/14 | 7/9/14 | (G) Alkoxysilane.

If you are interested in information that is not included in these tables, you may contact EPA as described in Unit II. to access additional non-CBI information that may be available.

Authority: 15 U.S.C. 2601 et seq.

Dated: October 27, 2014.
Chandler Sirmons,
Acting Director, Information Management Division, Office of Pollution Prevention and Toxics.

[FR Doc. 2014-26903 Filed 11-13-14; 8:45 am]

BILLING CODE 6560-50-P